DEPARTMENT OF THE INTERIOR

Fish and Wildlife Service

[FWS-HQ-IA-2016-N118; FXIA167109ADV16-156-FF09A00000]

Request for Nominees for the Advisory Council on Wildlife Trafficking

AGENCY: Fish and Wildlife Service, Interior.

ACTION: Request for nominees.

SUMMARY: The Secretary of the Interior (Secretary), after consultation with the Co-Chairs of the Presidential Task Force on Wildlife Trafficking (Task Force), is seeking nominations for individuals to serve on the Advisory Council on Wildlife Trafficking (Council).

DATES: Nominations must be received by September 21, 2016.

ADDRESSES: Send nominations, preferably by email, to Mr. Cade London, Special Assistant to the Assistant Director for International Affairs, at Cade_London@fws.gov. You may also send nominations via U.S. mail to U.S. Fish and Wildlife Service; Attention: Mr. Cade London; 5275 Leesburg Pike, MS: IA; Falls Church, VA 22041-3803.

FOR FURTHER INFORMATION CONTACT: Mr. Cade London, Special Assistant to the Assistant Director for International Affairs, U.S. Fish and Wildlife Service via email at Cade_London@fws.gov, via phone at (703) 358-2584, or via fax at (703) 358-2115.

SUPPLEMENTARY INFORMATION:

Council's Role

The Council conducts its operations in accordance with the provisions of the Federal Advisory Committee Act (FACA; 5 U.S.C. Appendix). It reports to the Presidential Task Force on Wildlife Trafficking through the Secretary of the Interior or his/her designee and functions solely as an advisory body. It advises and makes recommendations on issues relating to combating wildlife trafficking, including, but not limited to:

(1) Effective support for anti-poaching activities,

(2) Coordinating regional law enforcement efforts,

(3) Developing and supporting effective legal enforcement mechanisms, and

(4) Developing strategies to reduce illicit trade and consumer demand for illegally traded wildlife, including protected species.

The Council meets approximately four times annually, or as often as is necessary to complete its work.

Nominating Potential Council Members

The Department of the Interior (Department) is seeking nominations for individuals to be considered as Council members. Nominations should include a resume providing contact information and a description of the nominee's qualifications that is adequate enough to enable the Department to make an informed decision regarding meeting the membership requirements of the Council.

Requirements for Council Membership

Members must not be employees of the Federal Government. Membership includes knowledgeable individuals from the private sector, former governmental officials, nongovernmental organizations, and others who are in a position to provide expertise and support to the Task Force. Individuals who are federally registered lobbyists are ineligible to serve on all FACA and non-FACA boards, committees, or councils in an individual capacity. The term “individual capacity” refers to individuals who are appointed to exercise their own individual best judgment on behalf of the government, such as when they are designated Special Government Employees, rather than being appointed to represent a particular interest.

Council members serve at the pleasure of the Secretary of the Interior. Appointments will be for 3-year terms.

Dated: August 11, 2016.
Bryan Arroyo,
Assistant Director for International Affairs, U.S. Fish and Wildlife Service.

[FR Doc. 2016-19934 Filed 8-19-16; 8:45 am]

BILLING CODE 4333-15-P